DEPARTMENT OF THE INTERIOR

Fish and Wildlife Service

50 CFR Parts 10, 13, 17, and 23

RIN 1018-AD87

Revision of Regulations for the Convention on International Trade in Endangered Species of Wild Fauna and Flora (CITES); Reopening of the Comment Period

AGENCY: Fish and Wildlife Service, Interior.

ACTION: Proposed rule; notice of reopening of comment period.

SUMMARY: We, the Fish and Wildlife Service (Service), give notice that we are reopening the comment period for the proposed rule to revise the regulations for the Convention on International Trade in Endangered Species of Wild Fauna and Flora (CITES). We are reopening the public comment period to allow interested parties additional time to comment on the proposed rule. The proposed rule was published and the public comment period initially opened on April 19, 2006 (71 FR 20168). In response to requests, we are reopening the public comment period for an additional 30 days.

DATES: Comments must be received by July 28, 2006. If you previously submitted comments on this proposed rule, you do not need to resubmit them during this comment period. Any comments received after the closing date may not be considered in the final determination on the proposal.

ADDRESSES: You may send comments, identified by RIN 1018-AD87, by one of the following methods:

• Federal e-Rulemaking Portal: http://www.regulations.gov. Follow the instructions for submitting comments.

• E-mail: part23@fws.gov.

• Fax: (703) 358-2280.

• Mail or hand delivery: Dr. Peter Thomas, Chief, Division of Management Authority, U.S. Fish and Wildlife Service, 4401 N. Fairfax Drive, Room 700, Arlington, Virginia 22203.

See Public Comments Solicited at the end of SUPPLEMENTARY INFORMATION for further information about submitting comments. All comments received will be available for public inspection by appointment from 7:45 a.m. to 4:15 p.m., Monday through Friday, at the above address.

Comments specific to the information collection aspects of this proposed rule should be submitted to the Desk Officer for the Department of the Interior at OMB-OIRA via facsimile or e-mail using the following fax number or e-mail address: (202) 395-6566 (fax); OIRA_DOCKET@omb.eop.gov (e-mail). Please provide a copy of your comments to the U.S. Fish and Wildlife Service's Information Collection Officer, 4401 N. Fairfax Drive, MS 222 ARLSQ, Arlington, Virginia 22203; (703) 358-2269 (fax); or hope_grey@fws.gov (e-mail).

FOR FURTHER INFORMATION CONTACT: Dr. Peter Thomas, at the above address (telephone, (703) 358-2093; fax, (703) 358-2280).

SUPPLEMENTARY INFORMATION:

Background

CITES is a treaty that regulates international trade in certain protected species. The United States was one of the original signatories to the Treaty, which has been in effect since July 1, 1975. CITES uses a system of permits and certificates to help ensure that international trade is legal and does not threaten the survival of wildlife or plant species in the wild. Currently 169 countries have ratified, accepted, approved, or acceded to CITES; these countries are known as Parties. In the United States, CITES is implemented under the Endangered Species Act, and implementation authority for CITES has been delegated to the Service. We implement CITES through regulations in 50 CFR part 23. Changes to the interpretation and implementation of CITES and amendments to the listing of species in the CITES Appendices occur at meetings of the Conference of the Parties (CoP), which are held every 2 to 3 years.

We published a proposed rule on May 8, 2000 (65 FR 26664) (2000 proposal), to incorporate in the CITES regulations at 50 CFR part 23 needed changes resulting from CoP2 through CoP10. The 2000 proposal was never finalized. On April 19, 2006, we published a new proposed rule (71 FR 20168) to incorporate, as appropriate, applicable resolutions adopted at CoP2 through CoP13. We reviewed all of the comments received on the 2000 proposal and addressed them where appropriate in the current proposed rule. The initial comment period on this proposed rule closed on June 19, 2006. In response to requests we received, we are reopening the comment period for an additional 30 days.

Public Comments Solicited

We invite interested organizations and the public to comment on the proposed rule, which generally reflects the way we currently implement CITES. We have drafted the proposal as part of our ongoing permits reform effort to simplify procedures, use risk assessment to reduce paperwork while still ensuring effective species conservation, and help people understand how to conduct international trade in CITES species. We are seeking comments, in particular, on whether the provisions of the proposed rule allow the affected public to effectively comply with CITES.

When providing comments, to the extent possible, reference the section of the proposed regulations on which you are commenting and give the category of your comments. Select one of the following categories: (1) International organization; (2) government; (3) nongovernmental conservation organization; (4) humane or animal welfare organization; (5) wildlife/pet business; (6) other business; or (7) private citizen. You may send comments via e-mail to: part23@fws.gov. Please submit Internet comments as an ASCII file, avoiding the use of special characters and any form of encryption. Also, please reference in your e-mail message the following information: “IN 1018-AD87”; your name and mailing address; and the category of your comments.

Our practice is to make comments, including names and home addresses of respondents, available for public review during regular business hours. Any person commenting may request that we withhold their name and home address, which we will honor to the extent allowable by law. In some circumstances, we may also withhold a commenter's identity, as allowable by law. If you wish us to withhold your name and address or e-mail address, you must state this request prominently at the beginning of your comments. We will not, however, consider anonymous comments. To the extent consistent with applicable law, we will make all submissions from organizations or businesses, and from individuals identifying themselves as representatives or officials of organizations or businesses, available for public inspection in their entirety. Comments and materials received will be available for public inspection by appointment, from 7:45 a.m. to 4:15 p.m., at the Division of Management Authority (see ADDRESSES section).

Authority

The authority for this action is 27 U.S.C. 1087 and 16 U.S.C. 1531 et seq.

Dated: June 19, 2006.
Matt Hogan,
Acting Assistant Secretary for Fish and Wildlife and Parks.

[FR Doc. E6-10150 Filed 6-27-06; 8:45 am]

BILLING CODE 4310-55-P